NUCLEAR REGULATORY COMMISSION

10 CFR Parts 26, 60, 63, 73, and 74

RIN 3150-AI06

Geologic Repository Operations Area Security and Material Control and Accounting Requirements

AGENCY: Nuclear Regulatory Commission.

ACTION: Availability of preliminary draft rule language.

SUMMARY: The Nuclear Regulatory Commission (NRC) is making available preliminary draft rule language to amend its regulations to revise the security requirements and material control and accounting (MC&A) requirements for a geologic repository operations area (GROA). The goal of this rulemaking is to ensure effective security measures are in place for the protection of high-level radioactive waste given the post-September 11, 2001, threat environment. New requirements for specific training enhancements, improved access authorization, and enhancements to defensive strategies will be incorporated. The proposed rule will reinstate the alcohol and drug provisions of the fitness-for-duty provisions to a GROA. The proposed rule will also impose the fatigue portion of the fitness-for-duty requirements for the security personnel at a GROA. The proposed rule will establish general performance objectives and corresponding system capabilities for the GROA MC&A program, with a focus on strengthening, streamlining, and consolidating all MC&A regulations specific to a GROA. In addition, the proposed rule will require the emergency plan to address radiological emergencies. The availability of the preliminary draft rule language is intended to inform stakeholders of the current status of the NRC's activities, but the NRC is not soliciting formal public comments on the information at this time.

DATES: There will be an opportunity for public comment when the notice of proposed rulemaking is published in the Federal Register.

ADDRESSES: The preliminary draft rule language can be viewed and downloaded electronically via the NRC's rulemaking Web site at http://ruleforum.llnl.gov. Along with any publicly available documents related to this rulemaking, the draft information may be viewed electronically on public computers in the NRC's Public Document Room (PDR), located at One White Flint North, 11555 Rockville Pike, Rockville, Maryland 20852, Room O-1 F21, and open to the public on Federal workdays from 7:45 a.m. until 4:15 p.m. The PDR reproduction contractor will make copies of documents for a fee.

FOR FURTHER INFORMATION CONTACT: Merri Horn, Office of Federal and State Materials and Environmental Management Programs, U.S. Nuclear Regulatory Commission, Washington, DC 20555-0001, telephone (301) 415-8126, e-mail, mlh1@nrc.gov.

SUPPLEMENTARY INFORMATION: The NRC is making a preliminary version of the draft proposed rule language available to inform stakeholders of the current status of this proposed rulemaking. This preliminary draft rule language may be subject to significant revisions during the rulemaking process. The NRC is not soliciting early public comments on this preliminary draft rule language. No stakeholder requests for a comment period will be granted at this stage in the rulemaking process. Stakeholders will have an opportunity to comment on the rule language when it is published as a proposed rule.

The NRC's preliminary draft rule language will be posted on the NRC's rulemaking Web site at http://ruleforum.llnl.gov. The NRC may post updates to the draft proposed rule language on the rulemaking Web site.

Dated at Rockville, Maryland, this 10th day of May, 2007.
For the Nuclear Regulatory Commission.
Patrice M. Bubar,
Deputy Director, Division of Intergovernmental Liaison and Rulemaking, Office of Federal and State Materials and Environmental Management Programs.

[FR Doc. E7-9520 Filed 5-16-07; 8:45 am]

BILLING CODE 7590-01-P